DEPARTMENT OF COMMERCE

National Oceanic and Atmospheric Administration

50 CFR Part 648

[Docket No. 041229366-4366-01; I.D. 122304D]

RIN 0648-AQ25

Magnuson-Stevens Fishery Conservation and Management Act Provisions; Fisheries of the Northeastern United States; Monkfish Fishery; Amendment 2

AGENCY: National Marine Fisheries Service (NMFS), National Oceanic and Atmospheric Administration (NOAA), Commerce.

ACTION: Proposed rule; reopening of public comment period and correction.

SUMMARY: NMFS extends for 10 days the public comment period on the proposed rule to implement the management measures contained in Amendment 2 to the Monkfish Fishery Management Plan (FMP), as published on January 14, 2005. NMFS also corrects the description of the qualification years for the proposed modification to the monkfish limited access program that was incorrectly described in the preamble to the January 14, 2005, proposed rule. NMFS also clarifies the description of the proposed possession limit for the Offshore Fishery Program in the Southern Fishery Management Area (SFMA) provided in the preamble of the Amendment 2 proposed rule to be per monkfish day-at-sea (DAS).

DATES: The comment period on the proposed rule will be reopened from February 24, 2005, through March 7, 2005.

ADDRESSES: Written comments on the proposed rule may be submitted by any of the following methods:

• E-mail: E-mail comments may be submitted to mnkamnd2@noaa.gov. Include in the subject line the following “Comments on the Proposed Rule for Monkfish Amendment 2.”

• Federal e-Rulemaking Portal: http://www.regulations.gov.

• Mail: Comments submitted by mail should be sent to Patricia A. Kurkul, Regional Administrator, Northeast Region, NMFS, One Blackburn Drive, Gloucester, MA 01930-2298. Mark the outside of the envelope “Comments on the Proposed Rule for Monkfish Amendment 2.”

• Facsimile (fax): Comments submitted by fax should be faxed to (978) 281-9135.

Written comments regarding the burden-hour estimates or other aspects of the collection-of-information requirements contained in the proposed rule should be submitted to the Regional Administrator at the address above and by e-mail to David_Rostker@omb.eop.gov, or fax to (202) 395-7285.

Copies of Amendment 2, its Regulatory Impact Review (RIR), including the Initial Regulatory Flexibility Analysis (IRFA), and the Final Supplemental Environmental Impact Statement (FSEIS) are available on request from Paul J. Howard, Executive Director, New England Fishery Management Council, 50 Water Street, Newburyport, MA 01950. These documents are also available online at http://www.nefmc.org.

FOR FURTHER INFORMATION CONTACT: Allison R. Ferreira, Fishery Policy Analyst, (978) 281-9103; fax (978) 281-9135; e-mail allison.ferreira@noaa.gov.

SUPPLEMENTARY INFORMATION:

Background

On January 14, 2005 (70 FR 2586), NMFS published a proposed rule in the Federal Register that would implement the management measures contained in Amendment 2, if approved. The New England and Mid-Atlantic Fishery Management Councils developed Amendment 2 to address a number of issues that arose out of the implementation of the original FMP, as well as issues that were identified during public scoping. One of the issues that arose out of the implementation of the original FMP was unattainable permit qualification criteria for vessels in the southern end of the range of the fishery. To address this issue, Amendment 2 proposes a modification to the limited access permit qualification criteria. The qualification criteria referenced in the regulatory text of the January 14, 2005, proposed rule correctly stated that the qualification years under this modified limited access program would be 1995 through 1998. However, the preamble to the proposed rule incorrectly listed the qualification years as 1994 through 1998. Therefore, NMFS corrects the qualification years referenced in the preamble of the proposed rule published on January 14, 2005 (70 FR 2586), to read as follows: ”... during the qualification period March 15 through June 15, for the years 1995 through 1998. ...”

NMFS is also clarifying the proposed possession limit for vessels participating in the Offshore Fishery Program in the SFMA described on page 2587 of the preamble for the January 14, 2005, proposed rule. The proposed possession limit of 1,600 lb (725.7 kg) of monkfish tails is intended to be per monkfish DAS, not per trip.

The public comment period on the proposed rule ended on February 14, 2005. In order to provide the public with the opportunity to comment on the corrected proposed rule for Amendment 2, NMFS is reopening the public comment for a period for 10 days, beginning on February 24, 2005, and ending on March 7, 2005.

In addition, the preamble to the proposed rule published on January 14, 2004, 70 FR 2586, which was the subject of FR Doc. 05-755, on page 2586, third column, beginning on the third line from the bottom the words “the years 1994 through 1998. Two” are removed and in their place the following words “the years 1995 through 1998. Two ...” are added.

Authority: 16 U.S.C. 1801 et seq.

Dated: February 17, 2005.
Rebecca Lent,
Deputy Assistant Administrator for Regulatory Programs, National Marine Fisheries Service.

[FR Doc. 05-3583 Filed 2-23-05; 8:45 am]

BILLING CODE 3510-22-S